DEPARTMENT OF TRANSPORTATION

Federal Aviation Administration

14 CFR Part 39

[Docket No. FAA-2015-3224; Directorate Identifier 2015-CE-026-AD; Amendment 39-18290; AD 2015-20-11]

RIN 2120-AA64

Airworthiness Directives; Schempp-Hirth Flugzeugbau GmbH Sailplanes

AGENCY: Federal Aviation Administration (FAA), Department of Transportation (DOT).

ACTION: Final rule.

SUMMARY: We are adopting a new airworthiness directive (AD) for Schempp-Hirth Flugzeugbau GmbH Models Duo Discus and Duo Discus T powered sailplanes. This AD results from mandatory continuing airworthiness information (MCAI) issued by an aviation authority of another country to identify and correct an unsafe condition on an aviation product. The MCAI describes the unsafe condition as excessive load on the air brake system. We are issuing this AD to require actions to address the unsafe condition on these products.

DATES: This AD is effective November 18, 2015.

The Director of the Federal Register approved the incorporation by reference of a certain publication listed in the AD as of November 18, 2015.

ADDRESSES: You may examine the AD docket on the Internet at http://www.regulations.gov by searching for and locating Docket No. FAA-2015-3224; or in person at Document Management Facility, U.S. Department of Transportation, Docket Operations, M-30, West Building Ground Floor, Room W12-140, 1200 New Jersey Avenue SE., Washington, DC 20590.

For service information identified in this AD, contact Schempp-Hirth Flugzeugbau GmbH, Krebenstrasse 25, 73230 Kirchheim/Teck, Germany; telephone: +49 7021 7298-0; fax: +49 7021 7298-199; email: info@schempp-hirth.com; Internet: http://www.schempp-hirth.com. You may view this referenced service information at the FAA, Small Airplane Directorate, 901 Locust, Kansas City, Missouri 64106. For information on the availability of this material at the FAA, call (816) 329-4148. It is also available on the Internet at http://www.regulations.gov by searching for Docket No. FAA-2015-3224.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to add an AD that would apply to Schempp-Hirth Flugzeugbau GmbH Models Duo Discus and Duo Discus T powered sailplanes. The NPRM was published in the Federal Register on August 4, 2015 (80 FR 46206). The NPRM proposed to correct an unsafe condition for the specified products and was based on mandatory continuing airworthiness information (MCAI) originated by an aviation authority of another country. The MCAI states:

Operational experience shows that application of an excessive load on the air brake system may induce damage to the drive funnels in the fuselage and to the air brake bellcrank at the root rips of the wing.

This condition, if not detected and corrected, could lead to an uncontrolled actuation of the air brakes (symmetric and asymmetric), possibly resulting in reduced control of the (powered) sailplane.

To address this potential unsafe condition, Schempp-Hirth Flugzeugbau GmbH issued Technical Note (TN) 380-2, 396-17, 868-22 and 890-14 (published as a single document) to provide inspection instructions.

Consequently EASA issued AD 2015-0139 to require to repetitive inspections of the air brake bellcrank, the air brake drive funnels and the airbrake control system, and replacement of damaged parts.

Since that AD was issued, it was found that the drawing number of the reinforced air brake drive funnel was incorrectly stated in the original issue of the Schempp-Hirth TN. The wrongly referred drawing S14FB703 refers to an existing part, different from air brake drive funnel and cannot be installed as a replacement part for air brake drive funnel. Consequently, Schempp-Hirth Flugzeugbau GmbH issued Revision 1 of TN 380-2, 396-17, 868-22 and 890-14, hearafter referenced to as `the revised TN' in this AD.

For the reasons described above, this AD is revised to require using the revised TN.

The MCAI can be found in the AD docket on the Internet at http://www.regulations.gov/#!documentDetail;D=FAA-2015-3224-0002.

Comments

We gave the public the opportunity to participate in developing this AD. We received no comments on the NPRM (80 FR 46206, August 4, 2015) or on the determination of the cost to the public.

Conclusion

We reviewed the relevant data and determined that air safety and the public interest require adopting the AD as proposed except for minor editorial changes. We have determined that these minor changes:

• Are consistent with the intent that was proposed in the NPRM (80 FR 46206, August 4, 2015) for correcting the unsafe condition; and

• Do not add any additional burden upon the public than was already proposed in the NPRM (80 FR 46206, August 4, 2015).

Related Service Information Under 1 CFR Part 51

We reviewed Schempp-Hirth Flugzeugbau GmbH Technical Note No. 380-2/396-17/868-22/890-14, Revision 1, issued July 13, 2015 (published as a single document), and Working instruction for Technical Note No. 380-2/396-17/868-22/890-14, Ausgabe (English translation: issue) 1, Datum (English translation: dated) May 11, 2015. The service information describes procedures for inspecting and replacing the airbrake bell crank and the airbrake drive funnels and inspecting the airbrake control system for proper clearance and making necessary adjustments. This service information is reasonably available because the interested parties have access to it through their normal course of business or by the means identified in the ADDRESSES section of the AD.

Costs of Compliance

We estimate that this AD will affect 31 products of U.S. registry. We also estimate that it will take about 2 work-hours per product to comply with the basic inspection requirements of this AD. The average labor rate is $85 per work-hour.

Based on these figures, we estimate the cost of this portion of the AD on U.S. operators to be $5,270, or $170 per product.

We estimate that it will take about 4 work-hours per product to comply with the airbrake bell crank replacement requirement of this AD. The average labor rate is $85 per work-hour. Required parts will cost about $500 per product.

Based on these figures, we estimate the cost of this portion of the AD on U.S. operators to be $26,040, or $840 per product.

We estimate that it will take about 4 work-hours per product to comply with the airbrake drive funnel replacement requirement of this AD. The average labor rate is $85 per work-hour. Required parts will cost about $500 per product.

Based on these figures, we estimate the cost of this portion of the AD on U.S. operators to be $26,040, or $840 per product.

In addition, we estimate that any necessary follow-on actions to make any necessary adjustments to the airbrake control system will take about 2 work-hours for a cost of $170 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2015-3224; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2015-20-11 Schempp-Hirth Flugzeugbau GmbH: Amendment 39-18290; Docket No. FAA-2015-3224; Directorate Identifier 2015-CE-026-AD.

(a) Effective Date

This airworthiness directive (AD) becomes effective November 18, 2015.

(b) Affected ADs

None.

(c) Applicability

This AD applies to Schempp-Hirth Flugzeugbau GmbH Model Duo Discus powered sailplanes, serial numbers 1 through 639, and Model Duo Discus T powered sailplanes, serial numbers 1 through 110 and 112 through 247, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as excessive load on the air brake system. We are issuing this AD to prevent uncontrolled actuation of the air brakes (symmetric or asymmetric), which could result in reduced control.

(f) Actions and Compliance

Unless already done, do the actions in paragraph (f)(1) through (f)(5) of this AD.

(1) Within 40 days after November 17, 2015 (the effective date of this AD) and repetitively thereafter at intervals not to exceed 100 hours time-in-service until the terminating replacement action required in paragraphs (f)(2) and (f)(3) of this AD (as applicable) is done, inspect the airbrake bell crank, the airbrake drive funnels, and the airbrake control system.

(i) Inspect the airbrake bell crank and the airbrake drive funnels for cracks and damage following Action 1 in Schempp-Hirth Flugzeugbau GmbH Technical Note No. 380-2/396-17/868-22/890-14, Revision 1, issued July 13, 2015 (published as a single document).

(ii) Inspect the airbrake control system for proper clearance following Paragraph 2.d. of Schempp-Hirth Flugzeugbau GmbH Working instruction for Technical Note No. 380-2/396-17/868-22/890-14, Ausgabe (English translation: issue) 1, Datum (English translation: dated) May 11, 2015.

(2) If cracks or damage is found on the airbrake bell cranks or the airbrake drive funnels during any inspection required in paragraph (f)(1) of this AD, before further flight, replace each cracked or damaged part with a reinforced part. Installing a reinforced part terminates the repetitive inspections required in paragraph (f)(1) of this AD for that part.

(i) For replacement of the airbrake bell cranks, follow Picture 2: Reinforced version of airbrake bell crank according to HS 11-50.016, Revision a or later, in Schempp-Hirth Flugzeugbau GmbH Working instruction for Technical Note No. 380-2/396-17/868-22/890-14, Ausgabe (English translation: issue) 1, Datum (English translation: dated) May 11, 2015.

(ii) For replacement of the airbrake drive funnels, follow Picture 5: Airbrake drive funnel in fuselage “Reinforcement of airbrake drive funnel according to drawing S14RB703, Revision a, in Schempp-Hirth Flugzeugbau GmbH Working instruction for Technical Note No. 380-2/396-17/868-22/890-14, Ausgabe (English translation: issue) 1, Datum (English translation: dated) May 11, 2015.

(3) If no cracks or damage were found on the airbrake bell cranks or the airbrake drive funnels during any inspection required in paragraph (f)(1) of this AD, within 12 months after November 17, 2015 (the effective date of this AD), replace each of the airbrake bell cranks and airbrake drive funnels with a reinforced part. These replacements terminate the repetitive inspections required in paragraph (f)(1) of this AD.

(i) For replacement of the airbrake bell cranks, follow Picture 2: Reinforced version of airbrake bell crank according to HS 11-50.016, Revision a or later, in Schempp-Hirth Flugzeugbau GmbH Working instruction for Technical Note No. 380-2/396-17/868-22/890-14, Ausgabe (English translation: issue) 1, Datum (English translation: dated) May 11, 2015.

(ii) For replacement of the airbrake drive funnels, follow Picture 5: Airbrake drive funnel in fuselage, “Reinforcement of airbrake drive funnel according to drawing S14RB703, Revision a,” in Schempp-Hirth Flugzeugbau GmbH Working instruction for Technical Note No. 380-2/396-17/868-22/890-14, Ausgabe (English translation: issue) 1, Datum (English translation: dated) May 11, 2015.

(4) If the airbrake control system is found to not have proper clearance during the inspection required in paragraph (f)(1) of this AD, before further flight, make all necessary corrective adjustments following Paragraph 2.d. of Schempp-Hirth Flugzeugbau GmbH Working instruction for Technical Note No. 380-2/396-17/868-22/890-14, Ausgabe (English translation: issue) 1, Datum (English translation: dated) May 11, 2015.

(5) As of November 17, 2015 (the effective date of this AD), only install an airbrake bell crank or an airbrake drive funnel that corresponds to Picture 2: Reinforced version of airbrake bell crank according to HS 11-50.016, Revision a or later, and Picture 5: Airbrake drive funnel in fuselage, “Reinforcement of airbrake drive funnel according to drawing S14RB703, Revision a,” in Schempp-Hirth Flugzeugbau GmbH Working instruction for Technical Note No. 380-2/396-17/868-22/890-14, Ausgabe (English translation: issue) 1, Datum (English translation: dated) May 11, 2015, as applicable.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any sailplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2015-0139R1, dated July 15, 2015, for related information. You may examine the MCAI on the Internet at http://www.regulations.gov/#!documentDetail;D=FAA-2015-3224-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Schempp-Hirth Flugzeugbau GmbH Technical Note No. 380-2/396-17/868-22/890-14, Revision 1, issued July 13, 2015 (published as a single document).

(ii) Schempp-Hirth Flugzeugbau GmbH Working instruction for Technical Note No. 380-2/396-17/868-22/890-14, Ausgabe (English translation: issue) 1, Datum (English translation: dated) May 11, 2015.

(3) For Schempp-Hirth Flugzeugbau GmbH service information identified in this AD, contact Schempp-Hirth Flugzeugbau GmbH, Krebenstrasse 25, 73230 Kirchheim/Teck, Germany; telephone: +49 7021 7298-0; fax: +49 7021 7298-199; email: info@schempp-hirth.com; Internet: http://www.schempp-hirth.com.

(4) You may view this service information at the FAA, Small Airplane Directorate, 901 Locust, Kansas City, Missouri 64106. For information on the availability of this material at the FAA, call (816) 329-4148. In addition, you can access this service information on the Internet at http://www.regulations.gov by searching for and locating Docket No. FAA-2015-3224.

(5) You may view this service information that is incorporated by reference at the National Archives and Records Administration (NARA). For information on the availability of this material at NARA, call 202-741-6030, or go to: http://www.archives.gov/federal-register/cfr/ibr-locations.html.

Issued in Kansas City, Missouri, on October 1, 2015.
Melvin Johnson,
Acting Manager, Small Airplane Directorate, Aircraft Certification Service.

[FR Doc. 2015-25710 Filed 10-13-15; 8:45 am]

BILLING CODE 4910-13-P